SECURITIES AND EXCHANGE COMMISSION

[File No. 500-1]

In the Matter of Airbee Wireless, Inc., Axial Vector Engine Corp. (n/k/a Avec Corporation), and Exploration Drilling International, Inc.; Order of Suspension of Trading

January 27, 2012.

It appears to the Securities and Exchange Commission that there is a lack of current and accurate information concerning the securities of Airbee Wireless, Inc. because it has not filed any periodic reports since the period ended September 30, 2008.

It appears to the Securities and Exchange Commission that there is a lack of current and accurate information concerning the securities of Axial Vector Engine Corp. (n/k/a Avec Corporation) because it has not filed any periodic reports since the period ended March 31, 2007.

It appears to the Securities and Exchange Commission that there is a lack of current and accurate information concerning the securities of Exploration Drilling International, Inc. because it has not filed any periodic reports since the period ended September 30, 2008.

The Commission is of the opinion that the public interest and the protection of investors require a suspension of trading in the securities of the above-listed companies. Therefore, it is ordered, pursuant to Section 12(k) of the Securities Exchange Act of 1934, that trading in the securities of the above-listed companies is suspended for the period from 9:30 a.m. EST on January 27, 2012, through 11:59 p.m. EST on February 9, 2012.

By the Commission.
Elizabeth M. Murphy,
Secretary.

[FR Doc. 2012-2161 Filed 1-27-12; 4:15 pm]

BILLING CODE 8011-01-P